DEPARTMENT OF ENERGY

[EERE-2013-BT-NOC-0005]

Appliance Standards and Rulemaking Federal Advisory Committee

AGENCY: Office of Energy Efficiency and Renewable Energy, Department of Energy.

ACTION: Notice of open meeting.

SUMMARY: This notice announces a virtual open meeting of the Appliance Standards and Rulemaking Federal Advisory Committee (ASRAC). The Federal Advisory Committee Act requires that agencies publish notice of an advisory committee meeting in the Federal Register.

DATES: June 9, 2022; from 12 p.m.-5 p.m.

ADDRESSES: Meeting will be held virtually via Webex. See Public Participation section of this notice for webinar registration information, participant instructions, and information about the capabilities available to webinar participants, or visit the committee's website at: https://www.energy.gov/eere/buildings/appliance-standards-and-rulemaking-federal-advisory-committee.

FOR FURTHER INFORMATION CONTACT: Mr. John Cymbalsky, ASRAC Designated Federal Officer, U.S. Department of Energy, Building Technologies Program, EE-5B, 1000 Independence Avenue SW, Washington, DC 20585-0121. Telephone: (202) 287-1692. Email: asrac@ee.doe.gov.

SUPPLEMENTARY INFORMATION:

Purpose of Committee: The Committee provides advice and recommendations related to the development of minimum efficiency standards for residential appliances and commercial equipment; the development of product test procedures; the certification and enforcement of standards; the labeling for various residential products and commercial equipment; and specific issues of concern to DOE as requested by the Secretary of Energy, the Assistant Secretary for Energy Efficiency and Renewable Energy (EERE), and the Building Technologies Office (BTO) Director.

Tentative Agenda: DOE plans to hold this meeting virtually via webinar to gather advice and recommendations to the Department on the development of standards and test procedures for residential appliances and commercial equipment with the primary focus being the discussion and prioritization of topic areas that ASRAC can assist the Appliance and Equipment Standards Program with, particularly relating to rulemakings that could be subject to negotiation through ASRAC. (The final agenda will be available for public viewing at https://www.regulations.gov/docket?D=EERE-2013-BT-NOC-0005.)

Public Participation: The meeting is open to the public. Individuals and representatives of organizations who would like to offer comments and suggestions may do so during the meeting. Approximately 30 minutes will be reserved for public comments. Webinar registration information, participant instructions, and information about the capabilities available to webinar participants will be published on DOE's website: https://www.energy.gov/eere/buildings/appliance-standards-and-rulemaking-federal-advisory-committee.

The webinar will held using the Webex software platform and participants are responsible for ensuring their systems are compatible with the webinar software. If you plan to attend the webinar, please notify the ASRAC staff at asrac@ee.doe.gov.

Please note that foreign nationals participating in the webinar are subject to advance security screening procedures which require advance notice prior to attendance at the webinar. If a foreign national wishes to participate in the webinar, please inform DOE as soon as possible by contacting Ms. Regina Washington at (202) 586-1214 or by email: Regina.Washington@ee.doe.gov so that the necessary procedures can be completed.

Conduct of Webinar: ASRAC's Designated Federal Officer will preside over the webinar and may also use a professional facilitator to aid discussion. The webinar will not be a judicial or evidentiary-type public hearing, but DOE will conduct it in accordance with section 336 of EPCA (42 U.S.C. 6306).

Meeting Minutes: A transcript of the webinar will be included in the ASRAC docket: https://www.regulations.gov/docket?D=EERE-2013-BT-NOC-0005.

Signed in Washington, DC, on May 3, 2022.
LaTanya Butler,
Deputy Committee Management Officer.

[FR Doc. 2022-09781 Filed 5-5-22; 8:45 am]

BILLING CODE 6450-01-P